POSTAL REGULATORY COMMISSION

Sunshine Act Meetings; Amended Notice

This is an amendment to the Sunshine Act meeting notice of the Postal Regulatory Commission published in the Federal Register of January 7, 2016 (81 FR 815). The amendment is being made to update the agenda for the September 1, 2016 meeting.

TIMES AND DATES: September 1, 2016, at 11 a.m.

* * * * *

PORTIONS OPEN TO THE PUBLIC:

1. Report from the Office of Public Affairs and Government Relations.

2. Report from the Office of the General Counsel.

3. Report from the Office of Accountability and Compliance.

4. Presentation to the Commission on the United States Postal Service Stamp Program by Mary Anne Penner, Director of Stamp Services, United States Postal Service. (September 1, 2016 Meeting only)

5. Commissioners Vote to designate new Vice-Chairman of the Commission pursuant to 39 U.S.C. 502(e). (December 1, 2016 Meeting only)

PORTIONS OPEN TO THE PUBLIC:

6. Discussion of pending litigation.

* * * * *

By direction of the Commission.
Stacy L. Ruble,
Secretary.

[FR Doc. 2016-19880 Filed 8-16-16; 4:15 pm]

BILLING CODE 7710-FW-P